DEPARTMENT OF HOMELAND SECURITY

U.S. Customs and Border Protection

[1651-NEW]

Pre-Screening Interview Questionnaire Form

AGENCY: U.S. Customs and Border Protection (CBP), Department of Homeland Security.

ACTION: 60-Day notice and request for comments; new collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than April 23, 2021) to be assured of consideration.

ADDRESSES: Written comments and/or suggestions regarding the item(s) contained in this notice must include the OMB Control Number 1651-NEW in the subject line and the agency name. Please use the following method to submit comments:

Email. Submit comments to: CBP_PRA@cbp.dhs.gov.

Due to COVID-19-related restrictions, CBP has temporarily suspended its ability to receive public comments by mail.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Pre-Screening Interview Questionnaire Form

OMB Number: 1651-NEW.

Form Number: CBP Form 75.

Current Actions: New.

Type of Review: New.

Affected Public: Individuals.

Abstract: The CBP Office of Professional Responsibility (OPR), Personnel Security Division (PSD), conducts employment Background Investigations (BI), and periodic reinvestigations, to support determinations of an individual's suitability for employment or continued employment, eligibility to occupy a national security position, eligibility for access to classified information, eligibility for unescorted access to DHS/CBP facilities, or access to DHS/CBP information technology systems. OPR PSD conducts these investigations whether the individual is an applicant or employee, and these terms apply to both federal and contractor employees and selectees.

The Anti-Border Corruption Act of 2010 requires that all CBP law enforcement officers successfully complete a polygraph examination before entering on duty.¹ CBP polygraph resources are limited and CBP seeks to schedule candidates who have the best probability of successfully completing the exam. Prior to a polygraph exam, CBP employs a number of touchpoints where applicants may be screened out based on disqualifying responses to suitability or eligibility questions.

¹ See Public Law 111-376, 124 Stat. 4104, section 3; 6 U.S.C. 221(a).

In response to these concerns, and following an audit by the Department of Homeland Security's Office of the Inspector General (DHSOIG), OPR PSD created a plan to conduct Pre-Screening Interviews for all law enforcement candidates prior to scheduling a mandatory polygraph examination.

Type of Information Collection: CBP Form 75

Estimated Number of Respondents: 20,000.

Estimated Number of Annual Responses per Respondent: 10.

Estimated Number of Total Annual Responses: 200,000.

Estimated Time per Response: 2 minutes.

Estimated Total Annual Burden Hours: 6,667.

Dated: February 17, 2021.
Seth D. Renkema,
Branch Chief, Economic Impact Analysis Branch, U.S. Customs and Border Protection.

[FR Doc. 2021-03477 Filed 2-19-21; 8:45 am]

BILLING CODE P